DEPARTMENT OF COMMERCE

National Oceanic and Atmospheric Administration

Request for Public Comment on Draft Hydrographic Survey Specifications and Deliverables

AGENCY: Office of Coast Survey, National Ocean Service, National Oceanic and Atmospheric Administration, Department of Commerce.

ACTION: Request for comments.

SUMMARY: National Oceanic and Atmospheric Administration's (NOAA's) Office of Coast Survey (OCS) requests public comment from all interested parties on a draft of the newly-revised Hydrographic Survey Specifications and Deliverables document (HSSD). The HSSD has been rewritten to be more forward looking with respect to new and developing technologies, best facilitate the use of automated tools, and better integrate with the S-100 based products and the National Bathymetric Source (NBS), which is the OCS database for best-available bathymetry. Additionally, the revised HSSD will better accommodate the increasing amounts of hydrographic data obtained from external sources, with metadata tags to denote data quality and universal data licenses to define terms of use, which will result in more streamlined, standardized workflows. Numerous subject matter experts collaborated to modernize the HSSD so that it best supports OCS as a data-driven organization.

DATES: Comments must be received via email by 5 p.m. ET on October 12, 2023.

ADDRESSES: A copy of the revised HSSD may be downloaded or viewed at: https://nauticalcharts.noaa.gov/publications/docs/standards-and-requirements/specs/HSSD_2023-2-02.pdf.

All comments must be submitted by email to hssd.staff@noaa.gov by 5 p.m. ET on October 12, 2023.

Instructions: Please include “Public Comment on Revised HSSD” in the subject line of the email message. If applicable, clearly indicate the HSSD section and page number to which submitted comments pertain. All submissions must be in English. Email attachments will be accepted in plain text, Microsoft Word, or Adobe PDF formats only. Each individual or institution is requested to submit only one comment. Please note that the U.S. Government will not pay for response preparation or the use of any information contained in the response.

FOR FURTHER INFORMATION CONTACT: Requests for additional information should be directed to Matt Wilson, NOAA Office of Coast Survey, at hssd.staff@noaa.gov, (757) 828-6915.

SUPPLEMENTARY INFORMATION: In accordance with the Coast and Geodetic Survey Act, 33 U.S.C. 883 et seq., and the Hydrographic Services Improvement Act, 33 U.S.C. 892 et seq., NOAA promulgates standards and specifications for hydrographic data in the HSSD in order to ensure safe and efficient navigation in support of our maritime economy. NOAA has revised the HSSD to better accommodate new and developing technologies and increasing amounts of externally-sourced hydrographic data submissions. The revised HSSD facilitates more streamlined workflows via critical metadata tags and universal data licenses, and is better integrated with the NBS program, for a more efficient means of product generation and public access to our national bathymetry.

Authority: 33 U.S.C. 883 et seq.; 33 U.S.C. 892 et seq.

RDML Benjamin K. Evans,
Director, Office of Coast Survey, National Ocean Service, National Oceanic and Atmospheric Administration.

[FR Doc. 2023-18525 Filed 8-25-23; 8:45 am]

BILLING CODE 3510-JE-P